SMALL BUSINESS ADMINISTRATION

[Declaration of Disaster #3402]

State of Texas; Disaster Loan Areas

Bexar County and the contiguous counties of Atascosa, Bandera, Comal, Guadalupe, Kendall, Medina and Wilson in the State of Texas constitute a disaster area as a result of damages caused by severe storms and flooding that occurred on March 19, 2002. Applications for loans for physical damage as a result of this disaster may be filed until the close of business on May 31, 2002, and for economic injury until the close of business on January 2, 2003, at the address listed below or other locally announced locations:

U.S. Small Business Administration, Disaster Area 3 Office, 4400 Amon Carter Blvd., Suite 102, Ft. Worth, TX 76155.

The interest rates are:

For Physical Damage: | Percent
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury: Businesses and small agricultural cooperatives without credit available elsewhere | 3.500

The numbers assigned to this disaster are 340211 for physical damage and 9P0300 for economic injury.

(Catalog of Federal Domestic Assistance Program Nos. 59002 and 59008).
Dated: April 1, 2002.
Hector V. Barreto,
Administrator.

[FR Doc. 02-8460 Filed 4-8-02; 8:45 am]

BILLING CODE 8025-01-P